DEPARTMENT OF THE INTERIOR

National Park Service

[NPS-WASO-NAGPRA-NPS0032770; PPWOCRADN0-PCU00RP14.R50000]

Notice of Inventory Completion: Baylor University's Mayborn Museum Complex, Waco, TX (formerly Baylor University's Strecker Museum; formerly Baylor University Museum)

AGENCY: National Park Service, Interior.

ACTION: Notice.

SUMMARY: Baylor University's Mayborn Museum Complex (formerly Baylor University's Strecker Museum; formerly Baylor University Museum) has completed an inventory of human remains in consultation with the appropriate Indian Tribes or Native Hawaiian organizations and has determined that there is no cultural affiliation between the human remains and any present-day Indian Tribes or Native Hawaiian organizations. Representatives of any Indian Tribe or Native Hawaiian organization not identified in this notice that wish to request transfer of control of these human remains should submit a written request to Baylor University's Mayborn Museum Complex. If no additional requestors come forward, transfer of control of the human remains to the Indian Tribes or Native Hawaiian organizations stated in this notice may proceed.

DATES: Representatives of any Indian Tribe or Native Hawaiian organization not identified in this notice that wish to request transfer of control of these human remains should submit a written request with information in support of the request to Baylor University's Mayborn Museum Complex at the address in this notice by November 18, 2021.

FOR FURTHER INFORMATION CONTACT: Anita L. Benedict, Baylor University's Mayborn Museum Complex, One Bear Place #97154, Waco, TX 76798-7154, telephone (254) 710-4835, email anita_benedict@baylor.edu.

SUPPLEMENTARY INFORMATION: Notice is here given in accordance with the Native American Graves Protection and Repatriation Act (NAGPRA), 25 U.S.C. 3003, of the completion of an inventory of human remains under the control of Baylor University's Mayborn Museum Complex, Waco, TX. The human remains are reasonably believed to have been removed from or near Fort Cobb, Caddo County, OK.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by Baylor University's Mayborn Museum Complex professional staff in consultation with representatives of the Absentee-Shawnee Tribe of Indians of Oklahoma; Caddo Nation of Oklahoma; Comanche Nation, Oklahoma; Delaware Nation, Oklahoma; Delaware Tribe of Indians; Kiowa Indian Tribe of Oklahoma; The Osage Nation [previously listed as Osage Tribe]; Tonkawa Tribe of Indians of Oklahoma; Wichita and Affiliated Tribes (Wichita, Keechi, Waco, & Tawakonie), Oklahoma; and the Ysleta del Sur Pueblo [previously listed as Ysleta Del Sur Pueblo of Texas]. In addition, an invitation to consult was extended to the Alabama-Coushatta Tribe of Texas [previously listed as Alabama-Coushatta Tribes of Texas]; Alabama-Quassarte Tribal Town; Apache Tribe of Oklahoma; Cherokee Nation; Cheyenne and Arapaho Tribes, Oklahoma [previously listed as Cheyenne-Arapaho Tribes of Oklahoma]; Coushatta Tribe of Louisiana; Eastern Band of Cherokee Indians; Eastern Shawnee Tribe of Oklahoma; Fort McDowell Yavapai Nation, Arizona; Fort Sill Apache Tribe of Oklahoma; Jena Band of Choctaw Indians; Jicarilla Apache Nation, New Mexico; Kialegee Tribal Town; Kickapoo Traditional Tribe of Texas; Kickapoo Tribe of Indians of the Kickapoo Reservation in Kansas; Kickapoo Tribe of Oklahoma; Mescalero Apache Tribe of the Mescalero Reservation, New Mexico; Miccosukee Tribe of Indians; Mississippi Band of Choctaw Indians; Northern Arapaho Tribe of the Wind River Reservation, Wyoming [previously listed as Arapaho Tribe of the Wind River Reservation, Wyoming]; Northern Cheyenne Tribe of the Northern Cheyenne Indian Reservation, Montana; Poarch Band of Creek Indians [previously known as the Poarch Band of Creeks and as the Poarch Band of Creek Indians of Alabama]; Quapaw Nation [previously listed as The Quapaw Tribe of Indians]; San Carlos Apache Tribe of the San Carlos Reservation, Arizona; Seminole Tribe of Florida [previously listed as Seminole Tribe of Florida (Dania, Big Cypress, Brighton, Hollywood, & Tampa Reservations)]; Shawnee Tribe; The Chickasaw Nation; The Choctaw Nation of Oklahoma; The Muscogee (Creek) Nation; The Seminole Nation of Oklahoma; Thlopthlocco Tribal Town; Tonto Apache Tribe of Arizona; Tunica-Biloxi Indian Tribe; United Keetoowah Band of Cherokee Indians in Oklahoma; White Mountain Apache Tribe of the Fort Apache Reservation, Arizona; and the Yavapai-Apache Nation of the Camp Verde Indian Reservation, Arizona, but they did not participate. The Tribes identified in this section are hereafter referred to as “The Consulted and Notified Indian Tribes.”

History and Description of the Remains

On October 23-24, 1862, human remains representing, at minimum, one individual were removed from or near Fort Cobb, Caddo County, OK. Sometime after 1927, the left hand of the individual was donated to the Texas Collection at Baylor University by Mr. Clint Padgitt. In 1989, the human remains were transferred from the Texas Collection to the Strecker Museum. No associated funerary objects are present.

The individual (AR 20799) was purported to have been killed by Chief Placido of the Tonkawa, during what is known as the Tonkawa Massacre. Stories and newspaper accounts about the hand relate that Chief Placido of the Tonkawa killed Chief Black Foot (or Black Hawk) of the Comanche in a knife fight, during which Chief Placido was also wounded and later died of his wounds. After the fight, Chief Placido proceeded to cut off Chief Black Foot's (or Black Hawk's) left hand and sent it to his friend Captain Ross in Texas. The Padgitt family acquired the hand when Mr. Clint Padgitt's father, Mr. Tom Padgitt, married Captain Ross' daughter.

On June 15, 2018, the Comanche Nation informed Baylor University's Mayborn Museum Complex that after extensive research, “Chief Black Foot” is not known to the Comanche Nation. In December of 2020, the name Chief Black Hawk came to light. On February 9, 2021, the Comanche Nation informed Baylor University's Mayborn Museum Complex that after extensive research, “Chief Black Hawk” is not known to the Comanche Nation. On June 24, 2021, after reviewing new information uncovered by the Museum about the Tonkawa Massacre and information the Comanche Nation acquired from the Smithsonian Institution, the Comanche Nation informed the Museum that the Nation could find no evidence to support a finding that the individual is Comanche. Consequently, the tribal affiliation of the individual is unknown. Moreover, Delaware, Caddo, Comanche, Kiowa, and Shawnee individuals were reported to have been present on October 23-24, 1862 (although there are conflicting accounts).

Determinations Made by Baylor University's Mayborn Museum Complex

Officials of Baylor University's Mayborn Museum Complex have determined that:

• Pursuant to 25 U.S.C. 3001(9), the human remains described in this notice are Native American based on museum records, including stories and newspaper accounts.

• Pursuant to 25 U.S.C. 3001(9), the human remains described in this notice represent the physical remains of one individual of Native American ancestry.

• Pursuant to 25 U.S.C. 3001(2), a relationship of shared group identity cannot be reasonably traced between the Native American human remains and any present-day Indian Tribe.

• Treaties, Acts of Congress, or Executive Orders, indicate that the land from which the Native American human remains were removed is the aboriginal land of the Cheyenne and Arapaho Tribes, Oklahoma [previously listed as Cheyenne-Arapaho Tribes of Oklahoma]; Comanche Nation, Oklahoma; Jena Band of Choctaw Indians; Kiowa Indian Tribe of Oklahoma; Mississippi Band of Choctaw Indians; Northern Arapaho Tribe of the Wind River Reservation, Wyoming [previously listed as Arapaho Tribe of the Wind River Reservation, Wyoming]; Northern Cheyenne Tribe of the Northern Cheyenne Indian Reservation, Montana; Quapaw Nation [previously listed as The Quapaw Tribe of Indians]; The Chickasaw Nation; The Choctaw Nation of Oklahoma; Tonkawa Tribe of Indians of Oklahoma; and the Wichita and Affiliated Tribes (Wichita, Keechi, Waco & Tawakonie), Oklahoma (hereafter referred to as “The Tribes”).

• Pursuant to 43 CFR 10.11(c)(1), the disposition of the human remains may be to The Tribes.

Additional Requestors and Disposition

Representatives of any Indian Tribe or Native Hawaiian organization not identified in this notice that wish to request transfer of control of these human remains should submit a written request with information in support of the request to Anita L. Benedict, Baylor University's Mayborn Museum Complex, One Bear Place #97154, Waco, TX 76798-7154, telephone (254) 710-4835, email anita_benedict@baylor.edu, by November 18, 2021. After that date, if no additional requestors have come forward, transfer of control of the human remains to The Tribes may proceed.

Baylor University's Mayborn Museum Complex is responsible for notifying The Consulted and Notified Indian Tribes that this notice has been published.

Dated: October 6, 2021.
Melanie O'Brien,
Manager, National NAGPRA Program.

[FR Doc. 2021-22743 Filed 10-18-21; 8:45 am]

BILLING CODE 4312-52-P